DEPARTMENT OF COMMERCE

National Oceanic and Atmospheric Administration

RIN 0648-XB093

North Pacific Fishery Management Council; Public Notice

AGENCY: National Marine Fisheries Service (NMFS), National Oceanic and Atmospheric Administration (NOAA), Commerce.

ACTION: Notice of public meetings.

SUMMARY: The North Pacific Fishery Management Council's (Council's) Groundfish Plan Teams and Crab Plan Team will hold a workshop on Assessment/Management Issues Related to Recruitment, April 4-5, 2012 at the Alaska Fishery Science Center.

DATES: The meetings will be held April 4-5, 2012. The meetings will begin at 9 a.m., April 4 and continue through Thursday April 5. Webex participation is available; please check the Council Web site for participation information.

ADDRESSES: The meetings will be held at the Alaska Fisheries Science Center, 7600 Sand Point Way NE., Building 4, Traynor Room, Seattle, WA.

Council address: North Pacific Fishery Management Council, 605 W. 4th Ave., Suite 306, Anchorage, AK 99501-2252.

FOR FURTHER INFORMATION CONTACT: Jane DiCosimo or Diana Stram, North Pacific Fishery Management Council; telephone: (907) 271-2809.

SUPPLEMENTARY INFORMATION: The Plan Teams will develop guidelines on how to address environmental changes in the Stock-Recruitment relationship into biological reference points and how to model environmental forcing into stock projection models.

The Agenda is subject to change, and the latest version will be posted at http://www.alaskafisheries.noaa.gov/npfmc/.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: March 13, 2012.
Tracey L. Thompson,
Acting Director, Office of Sustainable Fisheries, National Marine Fisheries Service.

[FR Doc. 2012-6399 Filed 3-15-12; 8:45 am]

BILLING CODE 3510-22-P